DEPARTMENT OF LABOR

Employment and Training Administration

[TA-W-52,469 and TA-W-52,469A]

Shell E & P Company, Houston, TX, Shell E & P Company, New Orleans, Louisiana; Notice of Termination of Investigation

Pursuant to Section 221 of the Trade Act of 1974, as amended, an investigation was initiated on August 5, 2003 in response to a worker petition filed on behalf of workers at Shell E & P Company, Houston, Texas (TA-W-52,469) and Shell E & P Company, New Orleans, Louisiana (TA-W-52,469A).

The petitioner has requested that the petition be withdrawn. Consequently, the investigation has been terminated.

Signed at Washington, DC, this 15th day of August, 2003.
Elliott S. Kushner,
Certifying Officer, Division of Trade Adjustment Assistance.

[FR Doc. 03-22284 Filed 8-29-03; 8:45 am]

BILLING CODE 4510-30-P